DEPARTMENT OF THE TREASURY

Internal Revenue Service

Proposed Collection; Comment Request for Form 8908

AGENCY: Internal Revenue Service (IRS), Treasury.

ACTION: Notice and request for comments.

SUMMARY: The Internal Revenue Service (IRS), as part of its continuing effort to reduce paperwork and respondent burden, invites the general public and other Federal agencies to take this opportunity to comment on information collections, as required by the Paperwork Reduction Act of 1995. The IRS is soliciting comments concerning Energy Efficient Home Credit.

DATES: Written comments should be received on or before December 10, 2018 to be assured of consideration.

ADDRESSES: Direct all written comments to Laurie Brimmer, Internal Revenue Service, Room 6526, 1111 Constitution Avenue NW, Washington, DC 20224.

FOR FURTHER INFORMATION CONTACT: Requests for additional information or copies of the form and instructions should be directed to Martha R. Brinson, at (202)317-5753, or at Internal Revenue Service, Room 6526, 1111 Constitution Avenue NW, Washington, DC 20224, or through the internet at Martha.R.Brinson@irs.gov.

SUPPLEMENTARY INFORMATION:

Title: Energy Efficient Home Credit.

OMB Number: 1545-1979.

Form Number: 8908.

Abstract: Under current law, the energy efficient home credit is not available for qualified new energy efficient homes sold or leased after 2017 [IRC 45L(g)]. It is, of course, possible that this credit will be extended and available for 2018. Regardless, however, a partner in a fiscal year partnership or shareholder of a fiscal year S corporation may receive an energy efficient home credit that must be reported on a 2018 return [IRC 706(a); IRC 1366(a)]. Recipients of these “pass-through” credits who are partnerships or S corporations must report these amounts on Form 8908, line 3. All others can report these amounts directly on Form 3800, Part III, line 1p.

Current Actions:

1. The text for lines 1a, 1b, 2a, and 2b is replaced with “Reserved for future use” and the entry boxes are gray shaded, impacting programming and processing of paper returns. (In focus group testing, almost all participants were confused with a line that just had the text “Reserved” and wanted to know why it was reserved. Testing “Reserved for future use” allayed those concerns.)

2. For electronic programming of lines 1a through 2b, the Schema/Stylesheet Data Element and Element Name for MeF needn't change; a Business Rule for MeF may be added so that any entry other than zero is invalid and isn't allowed.

3. The instructions for lines 1a through 2b will tell filers to treat the amounts on those lines as zero when any form, worksheet, or instruction refers to those lines (for example, line 4 asks filers to add lines 1b, 2b, and 3).

Type of Review: Extension of a currently approved collection.

Affected Public: Businesses and other for-profit organizations.

Estimated Number of Respondents: 198,000.

Estimated Time per Respondent: 2 hours., 35 minutes.

Estimated Total Annual Burden Hours: 512,820.

The following paragraph applies to all of the collections of information covered by this notice:

An agency may not conduct or sponsor, and a person is not required to respond to, a collection of information unless the collection of information displays a valid OMB control number. Books or records relating to a collection of information must be retained as long as their contents may become material in the administration of any internal revenue law. Generally, tax returns and tax return information are confidential, as required by 26 U.S.C. 6103.

Request for Comments: Comments submitted in response to this notice will be summarized and/or included in the request for OMB approval. Comments will be of public record. Comments are invited on: (a) Whether the collection of information is necessary for the proper performance of the functions of the agency, including whether the information has practical utility; (b) the accuracy of the agency's estimate of the burden of the collection of information; (c) ways to enhance the quality, utility, and clarity of the information to be collected; (d) ways to minimize the burden of the collection of information on or other forms of information technology; and (e) estimates of capital or start-up costs and costs of operation, maintenance, and purchase of services to provide information.

Approved: October 3, 2018.
Laurie Brimmer,
Senior Tax Analyst.

[FR Doc. 2018-21997 Filed 10-9-18; 8:45 am]

BILLING CODE 4830-01-P